DEPARTMENT OF TRANSPORTATION

Federal Aviation Administration

14 CFR Part 97

[Docket No. 30365; Amdt. No. 3055]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 6, 2003. The compliance date for each SIAP is specified in the amendatory provisions.

The incorporation by reference of certain publications listed in the regulations is approved by the Director of the Federal Register as of May 6, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Addresses: P.O. Box 25082, Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, airports, incorporation by reference, and Navigation (Air).

Issued in Washington, DC, on April 25, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§ 97.23, 97.25, 97.27, 97.29, 97.31, 97.33, and 97.33 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

Effective May 15, 2003

Agana, Guam, Guam International, RNAV (GPS) RWY 6R, Orig

Kailua-Kona, HI, Kona Intl at Keahole, LOC BC RWY 35, Amdt 9

Kailua-Kona, HI, Kona Intl at Keahole, ILS Rwy 17, Orig

Kailua-Kona, HI, Kona Intl at Keahole, /ILS/DME RWY 17, Amdt 9A, Cancelled

Kailua-Kona, HI, Kona Intl at Keahole, RNAV (GPS) Rwy 17, Orig

Kailua-Kona, HI, Kona Intl at Keahole, RNAV (GPS) Y Rwy 35, Orig

Kailua-Kona, HI, Kona Intl at Keahole, RNAV (GPS) Z Rwy 35, Orig

South Bend, IN, South Bend Regional, ILS Rwy 27L, Amdt 35

Somerset, KY, Somerset-Pulaski County J.T. Wilson Field, LOC RWY 4, Orig

Somerset, KY, Somerset-Pulaski County J.T. Wilson Field, SDF Rwy 4, Amdt 6A Cancelled

Somerset, KY, Somerset-Pulaski County J.T. Wilson Field, NDB Rwy 4, Amdt 7

Somerset, KY, Somerset-Pulaski County J.T. Wilson Field, RNAV (GPS) Rwy 4, Orig

Somerset, KY, Somerset-Pulaski County J.T. Wilson Field, GPS Rwy 4, Orig, Cancelled

Somerset, KY, Somerset-Pulaski County J.T. Wilson Field, GPS Rwy 22, Admt 1, Cancelled

New Orleans, LA, Louis Armstrong New Orleans Intl, LOC Rwy 19, Amdt 1

New Orleans, LA, Louis Armstrong New Orleans Intl, ILS Rwy 28, Amdt 5

New Orleans, LA, Louis Armstrong New Orleans Intl, RNAV (GPS) Rwy 1, Orig

New Orleans, LA, Louis Armstrong New Orleans Intl, RNAV (GPS) Rwy 10, Orig

New Orleans, LA, Louis Armstrong New Orleans Intl, RNAV (GPS) Y Rwy 19, Orig

New Orleans, LA, Louis Armstrong New Orleans Intl, RNAV (GPS) Z Rwy 19, Orig

New Orleans, LA, Louis Armstrong New Orleans Intl, RNAV (GPS) Rwy 28, Orig

New Orleans, LA, Louis Armstrong New Orleans Intl, GPS Rwy 1, Orig-A, Cancelled

New Orleans, LA, Louis Armstrong New Orleans Intl, GPS Rwy 10, Orig-A, Cancelled

New Orleans, LA, Louis Armstrong New Orleans Intl, GPS Rwy 19, Orig-A, Cancelled

New Orleans, LA, Louis Armstrong New Orleans Intl, GPS Rwy 28, Orig-B, Cancelled

Hayward, WI, Sawyer County, LOC/DME RWY 20, Orig

Effective June 12, 2003

Mineola, TX, Mineola Wisener Field, VOR/DME-A, Amdt 4

Payson, AZ, Payson, RNAV (GPS)-A, Amdt 1

Chino, CA, Chino ILS Rwy 26R, Amdt 6

Inyokern, CA, Inyokern, RNAV (GPS) Y Rwy 02, Orig

Inyokern, CA, Inyokern, RNAV (GPS) Z Rwy 02, Orig

Hayden, CO, Yampa Valley, RNAV (GPS) Z Rwy 10, Orig

Hayden, CO, Yampa Valley, RNAV (GPS) Y Rwy 10, Orig

Hayden, CO, Yampa Valley, RNAV (GPS) Rwy 28, Orig

Hayden, CO, Yampa Valley, (GPS) C, Orig Cancelled

Hayden, CO, Yampa Valley, (GPS) D, Orig, Cancelled

Lamar, CO, Lamar Muni, RNAV (GPS) Rwy 8, Orig

Lamar, CO, Lamar Muni, RNAV (GPS) Rwy 18, Orig

Lamar, CO, Lamar Muni, RNAV (GPS) Rwy 26, Orig

Lamar, CO, Lamar Muni, RNAV (GPS) Rwy 36, Orig

Lamar, CO, Lamar Muni, (GPS) Rwy 18, Orig-A Cancelled

Lamar, CO, Lamar Muni, (GPS) Rwy 36, Amdt 1A, Cancelled

Zephryrhills, FL, Zephryrhills Muni, NDB Rwy 18, Orig

Zephryrhills, FL, Zephryrhills Muni, NDB Rwy 22, Orig

Zephryrhills, FL, Zephryrhills Muni, NDB Rwy 36, Orig

Rochelle, IL, Rochelle Muni Airport-Koritz Field, VOR-A, Amdt 8

Rochelle, IL, Rochelle Muni Airport-Koritz Field, RNAV (GPS) Rwy 7, Orig

Rochelle, IL, Rochelle Muni Airport-Koritz Field, RNAV (GPS) Rwy 25, Orig

Rayville, LA, John H. Hooks Jr Memorial, RNAV (GPS) Rwy 36,-Orig

Rayville, LA, John H. Hooks Jr Memorial, (GPS) Rwy 36, Orig Cancelled

Mitchellville, MD, Freeway, VOR Rwy 36, Orig-B

Mitchellville, MD, Freeway, RNAV (GPS) Rwy 18, Orig

Mitchellville, MD, Freeway, RNAV (GPS) Rwy 36, Orig

Ridgely, MD, Ridgely Airpark, RNAV (GPS) Rwy 12, Orig

Ridgely, MD, Ridgely Airpark, RNAV (GPS) Rwy 30, Orig

Bay City MI, James Clements Muni, VOR-A, Amdt 12

Cavalier, ND, Cavalier Muni, RNAV (GPS) Rwy 34, Orig

Fairmont, NE, Fairmont State Airfield, NDB Rwy 17, Amdt 1

Fairmont, NE, Fairmont State Airfield, NDB Rwy 35, Amdt 2

Fairmont, NE, Fairmont State Airfield, GPS Rwy 35, Orig, Cancelled

Fairmont, NE, Fairmont State Airfield, RNAV (GPS) Rwy 17, Orig

Fairmont, NE, Fairmont State Airfield, RNAV (GPS) Rwy 35, Orig

West Milford, NJ, Greenwood Lake, RNAV (GPS) Rwy 6, Orig

West Milford, NJ, Greenwood Lake, (GPS) Rwy 6, Orig, Cancelled

Lake Placid, NY, Lake Placid, RNAV (GPS) Rwy 14, Orig

Lake Placid, NY, Lake Placid, RNAV (GPS)-A, Orig

Ticonderoga, NY, Ticonderoga Muni, RNAV (GPS) Rwy 2, Orig

Ticonderoga, NY, Ticonderoga Muni, RNAV (GPS) Rwy 20, Orig

Ticonderoga, NY, Ticonderoga Muni, (GPS) Rwy 2, Orig, Cancelled

Ticonderoga, NY, Ticonderoga Muni, (GPS) Rwy 20, Orig, Cancelled

West Union, OH, Alexander Salamon, NDB Rwy 23, Amdt 4

West Union, OH, Alexander Salamon, RNAV (GPS) Rwy 5, Orig

West Union, OH, Alexander Salamon, RNAV (GPS) Rwy 23, Orig

Fayetteville, TN, Fayetteville, Muni, SDF Rwy 20, Amdt 3

Fayetteville, TN, Fayetteville, Muni, NDB Rwy 20, Amdt 4

Brenham, TX, Brenham Muni, RNAV (GPS) Rwy 16, Orig

Brenham, TX, Brenham Muni, RNAV (GPS) Rwy 34, Orig

Brenham, TX, Brenham Muni, (GPS) Rwy 16, Orig-A, Cancelled

Brenham, TX, Brenham Muni, (GPS) Rwy 34, Orig-A, Cancelled

Rockport, TX, Aransas County, RNAV (GPS) Rwy 14, Amdt 1

Rocksprings, TX, Edwards County, VOR Rwy 14, Amdt 4

Rocksprings, TX, Edwards County, RNAV (GPS) Rwy 14, Orig

Richmond/Ashland, VA, Hanover County Muni, VOR Rwy 16, Amdt 2

The FAA published the following procedures in Docket No. 30363 Amdt. No. 3053 to Part 97 of the Federal Aviation Regulations (Vol. 68, FR No. 77, Page 19734; dated Tuesday, April 22, 2003) under section 97.33 effective May 15, 2003 as rescinded which hereby remain in effect and will be published with an effective date of May 15, 2003:

Agana, Guam, Guam International, RNAV (GPS) Y Rwy 6L, Orig

Agana, Guam, Guam International, RNAV (GPS) Z Rwy 6L, Orig

The FAA published the following procedure in Docket No. 30363 Amdt. No. 3053 to Part 97 of the Federal Aviation Regulations (Vol. 68, FR No. 77, Page 19734; dated Tuesday, April 22, 2003) under section 97.33 effective May 15, 2003 which is hereby rescinded:

Agana, Guam, Guam International, RNAV (GPS) Rwy 6L, Orig

The FAA published the following procedure in Docket No. 30360 Amdt. No. 3051 to Part 97 of the Federal Aviation Regulations (Vol. 68, FR No. 65, Page 19413; dated Friday, April 4, 2003) under section 97.33 effective May 15, 2003 which is hereby rescinded:

Agana, Guam, Guam International, RNAV (GPS) Y Rwy 6R, Orig

Agana, Guam, Guam International, RNAV (GPS) Z Rwy 6L, Orig

[FR Doc. 03-11027 Filed 5-5-03; 8:45 am]

BILLING CODE 4910-13-M